DEPARTMENT OF LABOR

Employment and Training Administration

[TA-W-56,417]

Pride Manufacturing Company LLC Currently Known as American Pride Including Leased Workers of BDL/Allies Guilford, ME; Amended Certification Regarding Eligibility To Apply for Worker Adjustment Assistance and Alternative Trade Adjustment Assistance

In accordance with section 223 of the Trade Act of 1974 (19 U.S.C. 2273), and section 246 of the Trade Act of 1974, (26 U.S.C. 2813), as amended, the Department of Labor issued a Certification of Eligibility to Apply for Worker Adjustment Assistance and Alternative Trade Adjustment Assistance on March 3, 2005, applicable to workers of Pride Manufacturing Company LLC, including leased workers of BDL/Allies, Guilford, Maine. The notice was published in the Federal Register on April 1, 2005 (70 FR 16848).

At the request of the State agency, the Department reviewed the certification for workers of the subject firm. The workers are engaged in the production of wood products, including shapes, knobs, and gallery rail spindles; workers are not separately identifiable by specific products.

New information provided by the state shows that in October, 2005, American Pride purchased the Guilford, Maine facility of Pride Manufacturing Company LLC and is currently known as American Pride. The State agency also reports that workers wages at the subject firm are being reported under the Unemployment Insurance (UI) tax account for American Pride, Guilford, Maine. Accordingly, the Department is amending the certification to properly reflect this matter.

The intent of the Department's certification is to include all workers of Pride Manufacturing Company LLC who were adversely affected by increased company imports.

The amended notice applicable to TA-W-56,417 is hereby issued as follows:

All workers of Pride Manufacturing Company LLC, currently known as American Pride, including leased workers of BDL/Allies, Guilford, Maine, who became totally or partially separated from employment on or after January 19, 2004, through March 3, 2007, are eligible to apply for adjustment assistance under section 223 of the Trade Act of 1974, and are also eligible to apply for alternative trade adjustment assistance under Section 246 of the Trade Act of 1974.

Signed at Washington, DC, this 8th day of December 2005.
Richard Church,
Certifying Officer, Division of Trade Adjustment Assistance.

[FR Doc. E5-7601 Filed 12-20-05; 8:45 am]

BILLING CODE 4510-30-P